DEPARTMENT OF TRANSPORTATION

Federal Aviation Administration

14 CFR Part 47

[Docket No. FAA-2025-0638]

Request for Comment To Withhold Certain Aircraft Registration Information From Public Dissemination; Extension of Comment Period

AGENCY: Federal Aviation Administration (FAA), Department of Transportation (DOT).

ACTION: Request for comment; extension of comment period.

SUMMARY: This action extends the comment period for the request for comment published on April 3, 2025, titled “Request for Comment to Withhold Certain Aircraft Registration Information from Public Dissemination.” FAA is seeking comments on the impacts of removing certain aircraft registration data from public display on FAA's website, including through current search functions and published reports. The removal of this data is intended to satisfy the requirement in section 803 of the FAA Reauthorization Act of 2024, requiring removal of private aircraft owner or operator Personally Identifiable Information (PII) from broad dissemination or display by FAA, including on a publicly available website of FAA. FAA is extending the comment period to allow commenters additional opportunities to provide feedback on this topic.

DATES: The comment period for the request for comment published on April 3, 2025, at 90 FR 14590, and scheduled to close on May 5, 2025, is extended until June 4, 2025.

ADDRESSES: Send comments identified by docket number FAA-2025-0638 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Natalie Wilkowske, Flight Standards Service, Registry Bldg., Room 118, 6425 S Denning Ave., Oklahoma City, OK 73169; telephone (405) 954-2539; email faa.aircraft.registry@faa.gov.

SUPPLEMENTARY INFORMATION:

I. Background

On April 3, 2025, FAA published a request for comment titled “Request for Comment to Withhold Certain Aircraft Registration Information from Public Dissemination,” in the Federal Register (90 FR 14590). The request for comment sought public input on the following questions:

1. How often do people or organizations access or use registered owner information, and how is this information used?

2. What would be the impact on privacy, safety, commerce, and accessibility of information if the identified categories of registered owner information are removed from public availability?

3. How would the removal of such information affect the ability of stakeholders to perform necessary functions, such as maintenance, safety checks, and regulatory compliance?

4. How should FAA implement the removal of identified categories of registered owner information from public availability?

5. What would be the impact if the FAA removed such information for private aircraft owners categorically and permitted such owners to request copies of their information rather than removing such information only upon an individual request?

6. What additional aircraft registration data should be removed from FAA websites?

Since publication of the request for comment, FAA received a joint request from the General Aviation Manufacturers Association (GAMA), the International Aircraft Dealers Association (IADA), the National Air Transportation Association (NATA), the National Aircraft Finance Association (NAFA), the National Business Aviation Association (NBAA), and the Aircraft Title Lawyer & Title Company Coalition (ATLTCC), to extend the comment period by an additional thirty (30) days. These organizations requested more time to analyze any impacts, develop comments and recommendations, and coordinate those comments among their stakeholders.¹

¹ The request is in the docket.

II. Reopening of Comment Period

FAA grants the commenters' request for an extension of the comment period. FAA recognizes the importance of the request for comment and that an extension would help commenters craft complete and thoughtful responses. With this extension, the comment period will now close on June 4, 2025. This will provide the public with a total of sixty (60) days to conduct its review and submit comments to the docket.

FAA will not grant any additional requests to further extend the comment period for this request for comment.

III. Additional Information

A. Comments Invited

FAA invites interested persons to participate in this rulemaking by submitting written comments, data, or views. FAA also invites comments relating to the economic, environmental, energy, or federalism impacts that might result from adopting the proposals in this document. The most helpful comments reference a specific portion of the proposal, explain the reason for any recommended change, and include supporting data. To ensure the docket does not contain duplicate comments, commenters should submit only one time if comments are filed electronically or commenters should send only one copy of written comments if comments are filed in writing.

FAA will file in the docket all comments it receives, as well as a report summarizing each substantive public contact with FAA personnel concerning this request for comment. Before acting on this request for comment, FAA will consider all comments it receives on or before the closing date for comments.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

B. Confidential Business Information

Confidential Business Information (CBI) is commercial or financial information that is both customarily and actually treated as private by its owner. Under the Freedom of Information Act (FOIA) (5 U.S.C. 552), CBI is exempt from public disclosure. If your comments responsive to this request for comment contain commercial or financial information that is customarily treated as private, that you actually treat as private, and that is relevant or responsive to this request for comment, it is important that you clearly designate the submitted comments as CBI. Please mark each page of your submission containing CBI as “PROPIN.” FAA will treat such marked submissions as confidential under the FOIA, and they will not be placed in the public docket of this request for comment. Submissions containing CBI should be sent to the person in the FOR FURTHER INFORMATION CONTACT section of this document. Any commentary that FAA receives that is not specifically designated as CBI will be placed in the public docket for this rulemaking.

C. Availability of Rulemaking Documents

A copy of this request for comment and all comments received may be viewed online at www.regulations.gov using the docket number listed above. A copy of this extension of the comment period will be placed in the docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket number.

IV. Extension of Comment Period

Accordingly, the comment period of the request for comment published on April 3, 2025, at 90 FR 14590 (FR Doc. 2025-05738) is extended from May 5, 2025, until June 4, 2025.

Issued under authority provided by 49 U.S.C. 106(f), 44701(a)(5), and 44703(a) in Washington, DC.
Hugh J. Thomas,
Acting Deputy Executive Director, Flight Standards Service.

[FR Doc. 2025-07539 Filed 4-30-25; 8:45 am]

BILLING CODE 4910-13-P